DEPARTMENT OF HEALTH AND HUMAN SERVICES

National Institutes of Health

Office of the Director, National Institutes of Health; Notice of Meeting

Pursuant to section 1009 of the Federal Advisory Committee Act, as amended, notice is hereby given of a meeting of the Office of AIDS Research Advisory Council.

The meeting will be held as a virtual meeting and will be open to the public as indicated below. Individuals who plan to view the virtual meeting and need special assistance or other reasonable accommodations to view the meeting, should notify the Contact Person listed below in advance of the meeting. The meeting can be accessed from the NIH Videocast at the following link: https://videocast.nih.gov/.

Name of Committee: Office of AIDS Research Advisory Council.

Date: October 26, 2023.

Time: 12:15 p.m. to 5:00 p.m.

Agenda: The 64th meeting of the Office of AIDS Research Advisory Council (OARAC) will focus on HIV and health disparities, guest speakers and a discussion panel. The agenda will include OAR Director's Report; updates on the Clinical Guidelines Working Groups of OARAC; updates on NIH HIV-related advisory councils; the NIH HIV Strategic Plan for HIV and HIV-related Research report out; and public comment.

Place: Office of AIDS Research, Office of the Director, NIH, 5601 Fishers Lane, Rockville, MD 20852 (Virtual Meeting), https://videocast.nih.gov/watch=49574.

Contact Person: RDML Timothy H. Holtz, MD, MPH, Office of AIDS Research, Office of the Director, NIH, 5601 Fishers Lane, Room 2E61, Rockville, MD 20852, (301) 496-0357, OARACinfo@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 27, 2023.
Tyeshia M. Roberson-Curtis,
Program Analyst, Office of Federal Advisory Committee Policy.

[FR Doc. 2023-21686 Filed 9-29-23; 8:45 am]

BILLING CODE 4140-01-P